DEPARTMENT OF HOMELAND SECURITY

[Docket No. DHS-2014-0005]

1670-0023 Technical Assistance Request and Evaluation

AGENCY: National Protection and Programs Directorate, DHS.

ACTION: 30-Day Notice and request for comments Reinstatement of Previously Approved Collection: 1670-0023

SUMMARY: The Department of Homeland Security (DHS), National Protection and Programs Directorate (NPPD), Office of Cybersecurity and Communications (CS&C), National Cyber Security Division (NCSD), Office of Emergency Communications (OEC), will submit the following Information Collection Request (ICR) to the Office of Management and Budget (OMB) for review and clearance in accordance with the Paperwork Reduction Act of 1995 (Pub. L. 104-13, 44 U.S.C. Chapter 35). NPPD is soliciting comments concerning Reinstatement of Previously Approved Collection, Technical Assistance Request and Evaluation. DHS previously published this ICR in the Federal Register on December 10, 2014, for a 60-day public comment period. DHS received no comments. The purpose of this notice is to allow an additional 30 days for public comments.

DATES: Comments are encouraged and will be accepted until March 11, 2015. This process is conducted in accordance with 5 CFR 1320.10.

ADDRESSES: Written comments and questions about this Information Collection Request should be forwarded to DHS/NPPD/CS&C/NCSD/CSEP, 245 Murray Lane, SW., Mail Stop 0640, Arlington, VA 20598-0640. Emailed requests should go to Kendall Carpenter, Kendall.Carpenter@hq.dhs.gov. Written comments should reach the contact person listed no later than March 11, 2015. Comments must be identified by 1670-0023 and may be submitted by one of the following methods:

• Federal eRulemaking Portal: http://www.regulations.gov.

• Email: Kendall.Carpenter@hq.dhs.gov

• Include the docket number in the subject line of the message.

Instructions: All submissions received must include the words “Department of Homeland Security” and the docket number for this action. Comments received will be posted without alteration at http://www.regulations.gov, including any personal information provided.

SUPPLEMENTARY INFORMATION: The Office of Emergency Communications (OEC) formed under Title XVIII of the Homeland Security Act of 2002, 6 U.S.C. 101 et seq., as amended, is authorized to provide technical assistance at no charge to State, regional, local, and tribal government officials. OEC will use the Technical Assistance Request Form to identify the number and type of technical assistance requests from each State and territory. OEC will use the Technical Assistance Evaluation Form to support quality improvement of its technical assistance services. Both Forms may be submitted electronically or in paper form.

OMB is particularly interested in comments that:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

Analysis

Agency: Department of Homeland Security, National Protection and Programs Directorate, Office of Emergency Communications.

Title: Technical Assistance Request and Evaluation.

OMB Number: 1670-0023.

Frequency: Annually.

Affected Public: State, local and Tribal government.

Number of Respondents: 56 respondents (estimate).

Estimated Time per Respondent: 15 minutes.

Total Burden Hours: 175 annual burden hours.

Total Burden Cost (capital/startup): $0.

Total Recordkeeping Burden: $0.

Total Burden Cost (operating/maintaining): $4,273.50.

Scott Libby,
Deputy Chief Information Officer, National Protection and Programs Directorate, Department of Homeland Security.

[FR Doc. 2015-16387 Filed 7-1-15; 8:45 am]

BILLING CODE 9110-9P-P